DEPARTMENT OF THE INTERIOR

National Park Service

Notice of Inventory Completion for Human Remains and Associated Funerary Objects from Fort Stevenson, Dakota Territory in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects from Fort Stevenson, Dakota Territory in the possession of the Peabody Museum of Archaeology and Ethnology, Harvard University, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Peabody Museum of Archaeology and Ethnology professional staff in consultation with representatives of the Cheyenne River Sioux Tribe of the Cheyenne River Reservation, South Dakota; the Spirit Lake Tribe, North Dakota; the Assiniboine and Sioux Tribes of the Fort Peck Indian Reservation, Montana; and the Standing Rock Sioux Tribe of North and South Dakota.

In 1867, human remains representing three individuals were removed from Fort Stevenson, Dakota Territory by U.S. Army Surgeon Charles C. Gray and Acting Assistant Surgeon Washington Matthews on behalf of the Smithsonian Institution. No known individuals were identified. A Notice of Inventory Completion for these human remains was published September 3, 1997; a corrected notice was published September 15, 1997. The 16 associated funerary objects are 7 dentalium shell beads, 7 oval shell beads, 1 blue glass bead and a brass bracelet.

Neither the records of the Peabody Museum of Archaeology and Ethnology nor the Smithsonian Institution indicate the date of transfer of these individuals to the Peabody Museum of Archaeology and Ethnology. Primary accession and catalogue documents associated with these individuals at the Smithsonian record the individuals to be “Yanktonnais Sioux.” Cuthead Band of Upper Yanktonai Sioux oral traditions and historical documents indicate that Fort Stevenson was located within the Cuthead Band's traditional territory during the 19th century. The specific cultural affiliation attributed to the individuals by the collectors and the known policy during the 19th century of the Smithsonian Institution to request the remains of recently deceased Native individuals to be collected by U.S. Army personnel and Indian agents and sent to the Smithsonian Institution further support affiliation with the Cuthead Band of Yanktonai Sioux. The Cuthead Band of Yanktonai Sioux are represented by the Cheyenne River Sioux Tribe, Spirit Lake Tribe, Assiniboine and Sioux Tribes of the Fort Peck Reservation, and the Standing Rock Sioux Tribe.

Based on the above-mentioned information, officials of the Peabody Museum of Archaeology and Ethnology have determined that, pursuant to 43 CFR 10.2 (d)(2), the 16 objects listed above are reasonably believed to have been placed with or near individual human remains at the time of death or later as part of the death rite or ceremony. Officials of the Peabody Museum of Archaeology and Ethnology have determined that, pursuant to 43 CFR 10.2 (e), there is a relationship of shared group identity that can be reasonably traced between these associated funerary objects and the Cheyenne River Sioux Tribe of the Cheyenne River Reservation, South Dakota; the Spirit Lake Tribe, North Dakota; the Assiniboine and Sioux Tribes of the Fort Peck Indian Reservation, Montana; and the Standing Rock Sioux Tribe of North and South Dakota. This notice has been sent to officials of the Cheyenne River Sioux Tribe of the Cheyenne River Reservation, South Dakota; the Spirit Lake Tribe, North Dakota; the Assiniboine and Sioux Tribes of the Fort Peck Indian Reservation, Montana; and the Standing Rock Sioux Tribe of North and South Dakota. Representatives of any other Indian tribe that believes itself to be culturally affiliated with these associated funerary objects should contact Barbara Isaac, Repatriation Coordinator, Peabody Museum of Archaeology and Ethnology, Harvard University, 11 Divinity Avenue, Cambridge, MA 02138, telephone (617) 495-2254, before October 12, 2000. Repatriation of the associated funerary objects to the culturally affiliated tribes may begin after that date if no additional claimants come forward.

Dated: August 18, 2000.
John Robbins,
Assistant Director, Cultural Resources Stewardship and Partnerships.

[FR Doc. 00-23379 Filed 9-11-00; 8:45 am]

BILLING CODE 4310-70-F